DEPARTMENT OF HOMELAND SECURITY

Coast Guard

33 CFR Part 165

[CGD13-04-007]

RIN 1625-AA00

Security Zone: Portland Rose Festival on Willamette River

AGENCY: Coast Guard, DHS.

ACTION: Implementation of regulation.

SUMMARY: The Captain of the Port Portland will enforce the Portland Rose Festival Security Zone from June 9, 2004, until June 13, 2004.

DATES: 33 CFR 165.1312 will be enforced commencing June 9, 2004, until June 13, 2004.

FOR FURTHER INFORMATION CONTACT: Captain of the Port Portland, 6767 N. Basin Ave, Portland, OR, 97217 at (503) 240-9370 to obtain information concerning enforcement of this rule.

SUPPLEMENTARY INFORMATION: On May 29, 2003, the Coast Guard published a final rule (68 FR 31979) establishing a security zone, in 33 CFR 165.1312, for the security of naval vessels on a portion of the Willamette River during the fleet week of the Rose Festival. This security zone provides for the regulation of vessel traffic in the vicinity of the moored naval vessels. Entry into this zone is prohibited unless authorized by the Captain of the Port or his designee. The Captain of the Port Portland will enforce the Rose Festival Security Zone established by 33 CFR 165.1312 from Wednesday, June 9, 2004, until Sunday, June 13, 2004. The Captain of the Port may be assisted by other Federal, state, or local agencies in enforcing this security zone.

Dated: March 1, 2004.
Paul D. Jewell,
Captain, U.S. Coast Guard, Captain of the Port, Portland.

[FR Doc. 04-6743 Filed 3-25-04; 8:45 am]

BILLING CODE 4910-15-P